DEPARTMENT OF COMMERCE

National Oceanic and Atmospheric Administration

50 CFR Part 648

[Docket No. 240401-0094; RTID 0648-XD513]

Magnuson-Stevens Act Provisions; Fisheries of the Northeastern United States; Northeast Multispecies Fishery; Allocation of 2024 Northeast Multispecies Annual Catch Entitlements

AGENCY: National Marine Fisheries Service (NMFS), National Oceanic and Atmospheric Administration (NOAA), Commerce.

ACTION: Final rule.

SUMMARY: This final rule allocates Northeast multispecies annual catch entitlements to approved groundfish sectors and permit banks for fishing year 2024 based on 2024 annual catch limits set in Framework Adjustment 65 to the Northeast Multispecies Fishery Management Plan or default specifications. This action is intended to allow limited access permit holders to continue to operate sectors, as authorized under the Northeast Multispecies Fishery Management Plan.

DATES: Northeast multispecies annual catch entitlements for sectors are effective May 1, 2024, through April 30, 2025. Default catch limits are effective May 1, 2024, through October 31, 2024, or until the final rule for Framework Adjustment (Framework) 66 is implemented, if that final rule is implemented prior to October 31, 2024. If Framework 66 is not implemented on or before October 31, 2024, sectors would be prohibited from fishing in the stock areas of stocks with expired default specifications beginning November 1, 2024.

ADDRESSES: Copies of each sector's operations plan and contracts from fishing years 2023-2024; the Sector Operations Plan, Contract, and Environmental Assessment Requirements guidance document for fishing years 2023-2024, as well as the programmatic environmental assessment for sector operations in fishing years 2015 to 2020 and a supplemental information report analyzing sector operations for fishing years 2023 and 2024; and other supporting documents are available from the NMFS Greater Atlantic Regional Fisheries Office (GARFO). Copies of supporting documents are available from: Claire Fitz-Gerald at Claire.Fitz-Gerald@noaa.gov. These documents are also accessible via the GARFO website. These documents and the Federal Register documents referenced in this rule are also accessible via the internet at: https://www.fisheries.noaa.gov/management-plan/northeast-multispecies-management-plan.

FOR FURTHER INFORMATION CONTACT: Claire Fitz-Gerald, Fishery Policy Analyst, (978) 281-9255.

SUPPLEMENTARY INFORMATION:

Background

The Northeast Multispecies Fishery Management Plan (FMP) defines a sector as “a group of persons holding limited access Northeast multispecies permits who have voluntarily entered into a contract and agree to certain fishing restrictions for a specified period of time, and which has been granted a [total allowable catch] TAC(s) [sic] in order to achieve objectives consistent with applicable FMP goals and objectives.” (50 CFR 648.2 “Sector”) A sector must be comprised of at least three Northeast multispecies permits issued to at least three different persons, none of whom have any common ownership interest in the permits, vessels, or businesses associated with the permits issued to the other two or more persons in that sector. As long as at least three persons issued a Northeast multispecies permit meet these requirements, permit owners may have common ownership interests in other permits, vessels, or businesses associated with such permits. Sectors are self-selecting, meaning participation is voluntary, and each sector can choose its members.

The Northeast multispecies sector management system includes an annual allocation of available catch for a portion of the Northeast multispecies stocks to each approved sector. These annual sector allocations are known as annual catch entitlements (ACE) and are based on the collective fishing history of the permits held by a sector's members. Sectors may receive allocations of large-mesh Northeast multispecies stocks with the exception of Atlantic halibut, windowpane flounder, Atlantic wolffish, and ocean pout, which are non-allocated species managed under separate effort controls. ACEs are portions of a stock's annual catch limit (ACL) available to commercial Northeast multispecies vessels. A sector determines how to harvest its ACE.

Because sectors elect to receive an allocation under a quota-based system, the FMP grants sector vessels several universal exemptions from the FMP's effort controls. These universal exemptions apply to: Trip limits on allocated stocks; portions of the Gulf of Maine (GOM) Cod Protection Closures; Northeast multispecies days-at-sea (DAS) restrictions; the requirement to use a 6.5-inch (16.5-centimeter (cm)) mesh codend when fishing with selective gear on Georges Bank (GB); and the minimum codend mesh size restrictions for trawl gear when fishing in compliance with the provisions of the Redfish Exemption Program. The FMP allows the Council to add universal exemptions using the framework adjustment procedure. Sectors may request additional exemptions annually as part of their sector operations plans to increase flexibility and fishing opportunities. The FMP prohibits sectors from requesting exemptions from permitting restrictions, gear restrictions designed to minimize habitat impacts, and most reporting requirements.

In addition to the sectors, there are several state-operated permit banks that each receive an allocation based on the fishing history of permits they hold. The final rule implementing Amendment 17 to the FMP (77 FR 16942; March 23, 2012) allowed a state-operated permit bank to receive an allocation without needing to comply with sector administrative and procedural requirements. Instead, permit banks are required to submit a list of permits to NMFS, as specified in the permit bank's Memorandum of Agreement between NMFS and the state, to determine the ACE allocated to the permit bank. These allocations may be leased to fishermen enrolled in sectors. State-operated permit banks are no longer approved through the sector approval process, but current state-operated permit banks contribute to the total allocation under the sector system.

NMFS previously approved 15 sectors to operate in fishing years 2023 and 2024, and also approved 18 requested exemptions for sectors (88 FR 26502; May 1, 2023). Copies of the operations plans and contracts from fishing years 2023-2024, the Sector Operations Plan, Contract, and the Environmental Assessment Requirements guidance document for fishing years 2023-2024, the programmatic environmental assessment (PEA), and other supporting documents are available at: https://www.fisheries.noaa.gov/species/northeast-multispecies and from NMFS (see ADDRESSES). NMFS previously prepared a supplemental information report analyzing sector operations for fishing years 2023 and 2024, which determined that the potential impacts to the fishery from the measures described above fall within the scope of the PEA developed in support of sector operations for fishing years 2015 through 2020. This report is available at https://www.fisheries.noaa.gov/new-england-mid-atlantic/commercial-fishing/fishing-year-2023-sectors and from NMFS (see ADDRESSES). This final rule allocates 2024 ACE to the approved sectors and permit banks based on preliminary fishing year 2024 rosters and the fishing year 2024 catch limits set in Framework 65 (88 FR 56527; August 18, 2023) to the FMP or default specifications.

Operations Plan Submissions and Changes

Annually, NMFS solicits operations plan submissions for consideration and approval. Prior to the 2023 fishing year, NMFS received 15 sector operations plans, all of which were approved for fishing years 2023 and 2024 (88 FR 26502; May 1, 2023). These approved sectors are not required to resubmit operations plans for 2024. NMFS did not receive any new operations plans for approval for fishing year 2024. In addition, sectors may request changes to approved operations plans as needed to implement changes to their operations. NMFS did not receive any submissions for substantive changes to approved operations plans for fishing year 2024.

Catch Limits for Fishing Year 2024

Previously Established Catch Limits

Last year, Framework 65 (88 FR 56527; August 18, 2023) set catch limits for 16 groundfish stocks: GB haddock, GOM haddock, Southern New England/Mid-Atlantic (SNE/MA) yellowtail flounder, Cape Cod (CC)/GOM yellowtail flounder, American plaice, witch flounder, GB winter flounder, GOM winter flounder, SNE/MA winter flounder, pollock, ocean pout, Atlantic halibut, and Atlantic wolffish for fishing years 2023-2025; GB cod and GB yellowtail flounder for fishing years 2023-2024; and white hake for fishing year 2023. Framework 66 will set catch limits for 8 groundfish stocks: Acadian redfish, northern windowpane flounder, and southern windowpane flounder for fishing years 2024-2026; and GB cod, GB haddock, GOM haddock, GB yellowtail flounder, and white hake for fishing years 2024-2025. However, Framework 66 may not be in place by May 1, 2024, the start of the fishing year. To prevent disruption to the groundfish fishery while Framework 66 is finalized, this final rule announces default catch limits that will be in effect for Acadian redfish, northern windowpane flounder, southern windowpane flounder, and white hake until October 31, 2024, or until Framework 66 is finalized and goes into effect.

As a result, the sector and common pool allocations in this rule are based on the 2024 catch limits set in Framework 65 or default catch limits that will be effective on May 1, 2024, and preliminary 2024 fishing year rosters (table 1). If NMFS approves Framework 66, the 2024 catch limits for 8 (out of 20) groundfish stocks announced in this rule will be changed and published when Framework 66 measures become effective.

Default Catch Limits

This rule announces default fishing year 2024 catch limits for Acadian redfish, northern windowpane flounder, southern windowpane flounder, and white hake (table 1). These stocks do not already have a catch limit in place for fishing year 2024. The groundfish regulations implement default catch limits for any stock for which final specifications are not in place by the beginning of the fishing year on May 1. The FMP's default specifications provision in the regulations at 50 CFR 648.90(a)(3) sets catch limits at 75 percent of the previous year's (2023) catch limits, except in instances where the default catch limit would exceed the Council's recommendation for the final specifications. The default catch limits are effective from May 1 through October 31, or until the final rule for Framework 66 is implemented if that final rule is implemented prior to October 31. These default specifications are set out in the regulations to minimize impacts on the fishery that would occur if no catch limits are specified. If Framework 66 is not implemented on or before October 31, all fishing for these stocks would be prohibited beginning November 1. The prohibition would remain in effect for the remainder of the fishing year, unless and until the catch limits in Framework 66 are implemented. This includes redfish, white hake, northern windowpane flounder, and southern windowpane flounder stocks.

Table 1—Northeast Multispecies Catch Limits for 2024
Stock | Total U.S. ABC (mt) | Commercial groundfish sub-ACL (mt)
GB Cod * | 519 | 374.9
GOM Cod * | 551 | 278.1
GB Haddock * | 11,638 | 10,834.9
GOM Haddock * | 2,038 | 1,209.2
GB Yellowtail Flounder * | 106 | 84.3
SNE/MA Yellowtail Flounder * | 40 | 33.4
CC/GOM Yellowtail Flounder * | 992 | 876.4
American Plaice * | 5,520 | 5,191.6
Witch Flounder * | 1,256 | 1,145.5
GB Winter Flounder * | 1,549 | 1,487.5
GOM Winter Flounder * | 804 | 607.2
SNE/MA Winter Flounder * | 627 | 440.8
Redfish # | 7,475 | 7,101.5
White Hake # | 1,384 | 1,369.2
Pollock | 13,940 | 12,183.6
N Windowpane Flounder # | 120 | 78.7
S Windowpane Flounder # | 288 | 33.5
Ocean Pout * | 87 | 49
Atlantic Halibut * | 86 | 64.1
Atlantic Wolffish * | 93 | 86.5
* These catch limits are based on Framework 65.
# These catch limits are based on default specifications and will be replaced when the final rule for Framework 66 becomes effective, if approved. If Framework 66 is not implemented on or before October 31, all fishing for these stocks would be prohibited beginning November 1.

Sector Allocations for Fishing Year 2024

This rule allocates ACE to sectors and permit banks based on the preliminary fishing year 2024 sector rosters and the 2024 catch limits established in Framework 65 or default specifications. Any permits that change ownership after the enrollment deadline established by the Regional Administrator (March 13, 2024) retain the ability to join a sector through April 30, 2024. All permit holders who have joined a sector for fishing year 2024 have until April 30, 2024, to withdraw and instead elect to fish in the common pool, although sectors may specify a more restrictive withdrawal date for their members. As a result, the total permits enrolled in sectors for fishing year 2024 could change from the preliminary rosters, although such changes are expected to be minimal based on past fishing years.

NMFS calculates the sector's allocation for each stock by summing its members' potential sector contributions (PSC) for a stock and then multiplying that total percentage by the available commercial sub-ACL for that stock. Table 2 shows the preliminary projected total PSC for each sector, by stock, for fishing year 2024 based on preliminary 2024 rosters. Tables 3 and 4 show estimates of the preliminary allocations that each sector will be allocated, in pounds and metric tons, respectively, for fishing year 2024, based on their preliminary fishing year 2024 rosters and the 2024 catch limits established in Framework 65 or default specifications. As soon as practicable after the start of the 2024 fishing year, final allocations to the nearest pound are provided directly to each sector based on their final May 1 rosters. NMFS uses these final allocations, along with later adjustments, including ACE transfers, reductions for overages, or increases for carryover from fishing year 2023, to monitor sector catch. The common pool collectively may harvest an amount of a particular stock equal to the common pool sub-ACL, which is a portion of the commercial groundfish quota for that stock. The common pool sub-ACLs are also included tables 3 and 4. The common pool sub-ACLs are managed separately from sectors and do not contribute to available ACE for leasing or harvest by sector vessels. The preliminary common pool sub-ACLs are included in tables 2 through 4 for comparison.

Instead of assigning separate PSCs for the eastern GB cod or eastern GB haddock, a PSC is assigned to each permit for the GB cod stock and GB haddock stock. Each sector's GB cod and GB haddock allocations are then divided into an eastern ACE and a western ACE, based on each sector's percentage of the GB cod and GB haddock ACLs. For example, if a sector is allocated 4 percent of the GB cod ACL, the sector is allocated 4 percent of the commercial eastern GB cod TAC as its eastern GB cod. The eastern GB haddock allocations are determined in the same way. These amounts are then subtracted from the sector's overall GB cod and haddock allocations to determine its western GB cod and haddock ACEs. A sector may only harvest its eastern GB cod and haddock ACEs in the Eastern U.S./Canada Area. A sector may also “convert,” or transfer, its eastern GB cod or haddock allocation into western GB allocation and harvest that converted ACE outside the eastern GB geographic area.

Each sector is required to ensure that it does not exceed its ACE during the fishing year. Sector vessels are required to retain all legal-sized allocated Northeast multispecies stocks, unless a sector is granted an exemption allowing its member vessels to discard legal-sized unmarketable fish at sea. Catch (defined as landings and discards) of all allocated Northeast multispecies stocks by a sector's vessels counts against the sector's allocation. Groundfish catch from a sector trip targeting non-groundfish species will be deducted from the sector's ACE because these are groundfish trips using gear capable of catching groundfish. Catch from a non-sector trip in an exempted fishery does not count against a sector's allocation and is assigned to a separate ACL sub-component to account for any groundfish bycatch that occurs in non-groundfish fisheries.

NMFS expects final 2023 catch information for sectors to be ready in summer 2024. To reduce or eliminate any fishing year 2023 overages, NMFS will allow sectors to trade fishing year 2023 ACE for 2 weeks after completion of the year-end catch accounting. If necessary, NMFS will reduce any sector's fishing year 2024 allocation to account for a remaining overage in fishing year 2023. Each year, NMFS notifies the Council and sector managers of this deadline in writing and announces its final ACE determination at: https://www.fisheries.noaa.gov/species/northeast-multispecies.

BILLING CODE 3510-22-P

BILLING CODE 3510-22-C

Sector Operations Plans and Contracts

Fifteen sectors are approved to operate in fishing year 2024 (88 FR 26502; May 1, 2023). NMFS did not receive any new sector operations plans or substantive updates to existing operations plans for fishing year 2024. All 15 approved sectors were active in fishing year 2023. Approved operations plans contain the rules under which each sector will fish, and also provide the legal contract that binds each member to the sector for the length of the sector's operations plan. Each sector's operations plan, and each sector's members, must comply with the regulations governing sectors, found at 50 CFR 648.87. In addition, each sector must conduct fishing activities as detailed in its approved operations plan.

Participating vessels are required to comply with all pertinent Federal fishing regulations, except as specifically exempted in the letter of authorization (LOA) issued by the Regional Administrator, which details any approved sector exemptions from the regulations. If, during the fishing year, a sector requests an exemption that NMFS already granted, or proposes a change to administrative provisions, NMFS may amend that sector's operations plan. Should any such amendments require modifications to LOAs, NMFS will include these changes in updated LOAs and provide them to the appropriate sectors.

NMFS may revoke exemptions in-season if: it determines that the exemption jeopardizes management measures, FMP objectives, or rebuilding efforts; the exemption results in unforeseen negative impacts on other managed fish stocks, habitat, or protected resources; the exemption causes enforcement concerns; catch from trips using the exemption cannot be adequately monitored; or a sector is not meeting certain administrative or operational requirements. If it becomes necessary to revoke an exemption, NMFS will do so through a process consistent with the existing regulations or in a separate rulemaking action, as appropriate.

Sector Monitoring Programs

Sectors are responsible for developing and implementing a monitoring program that must be: (1) approved by NMFS as both sufficient to monitor catch, discards, and use of ACE; and (2) consistent with the FMP's goals and objectives for the sector monitoring program.

For fishing year 2024, sector vessels may choose to use at-sea monitoring (ASM) or the audit model electronic monitoring (EM) program to meet monitoring requirements, provided that the sector has a corresponding monitoring program approved as part of its operations plan. At the January 2024 meeting of the New England Fishery Management Council, NMFS announced the suspension of the maximized retention EM (MREM) program for fishing year 2024 due to the exceedingly high administrative cost per vessel of managing the program given its extraordinarily low participation rate. NMFS intends to revisit this decision for fishing year 2025 and may decide to operate MREM in 2025. On February 20, 2024, NMFS announced a preliminary ASM coverage target of 100 percent of all sector groundfish trips for the 2024 fishing year. The preliminary coverage level was announced to facilitate preparations by industry members and monitoring companies ahead of the 2024 fishing year. In order to develop the 2024 ASM spend plan, NMFS is currently evaluating whether the preliminary coverage level target can be met given the level of 2024 appropriations funding for reimbursing sectors for the cost of monitoring. The final ASM coverage level will be announced when Congress approves the 2024 ASM spend plan. Vessels that choose to use ASM to meet monitoring requirements will be assigned monitors based on the target coverage level set for all sector groundfish trips. Vessels that choose to use EM to meet monitoring coverage requirements must use cameras and adhere to catch handling protocols as described in their vessel monitoring plans for all groundfish trips.

Only a subset of the submitted trips will be selected for review to monitor groundfish discards for catch accounting. A subset of the selected EM trips will also undergo review by NMFS to monitor the third-party service provider's performance. The vessel owner or operator and the third-party service provider must provide the EM data for any given trip to NMFS, and its authorized officers and designees, upon request including, but not limited to, trips selected for NMFS review. For fishing year 2024, each audit model vessel's EM video footage review rate will be calculated individually based on that vessel's performance during the fishing year. The minimum possible EM video footage review rate will be 35 percent of sector trips for audit model vessels. Vessels that are new to EM will have a 50-percent video footage review rate in 2024 to allow more opportunities for feedback on their catch handling and reporting performance.

All sectors that harvest fish included an ASM plan as part of their approved operations plans. Sectors that operate only as permit banks, and explicitly prohibit fishing in their operations plans, are not required to include provisions for an ASM program. Nine sectors use the NMFS-designed ASM program, and four sectors use a sector-designed ASM program, previously approved by NMFS. Thirteen sectors also included an EM plan as part of their approved operations plans. All of these sectors included the NMFS-designed audit model EM program in their operations plans. Eleven of these sectors also included the NMFS-designed maximized retention EM program in their operations plans. The MREM program will remain in these approved sector operations plans. However, as explained above, NMFS will not operate MREM in fishing year 2024 and, as such, will not approve vessel-specific monitoring plans to enroll in the MREM program.

Approved Exemptions Granted for Fishing Years 2024

NMFS previously granted exemptions from the following requirements for fishing years 2023 and 2024 (88 FR 26502; May 1, 2023), all of which were also requested and granted in previous years:

(1) 120-day block out of the fishery required for Day gillnet vessels;

(2) 20-day spawning block out of the fishery required for all vessels;

(3) Limits on the number of gillnets for Day gillnet vessels outside the GOM;

(4) Prohibition on a vessel hauling another vessel's gillnet gear;

(5) Limits on the number of gillnets that may be hauled on GB when fishing under a Northeast multispecies/monkfish DAS;

(6) Limits on the number of hooks that may be fished;

(7) DAS Leasing Program length and horsepower restrictions;

(8) Prohibition on discarding;

(9) Gear requirements in the Eastern U.S./Canada Management Area;

(10) Prohibition on a vessel hauling another vessel's hook gear;

(11) The requirement to declare an intent to fish in the Eastern U.S./Canada Special Access Program (SAP) and the Closed Area (CA) II Yellowtail Flounder/Haddock SAP prior to leaving the dock;

(12) Seasonal restrictions for the Eastern U.S./Canada Haddock SAP;

(13) Seasonal restrictions for the CA II Yellowtail Flounder/Haddock SAP;

(14) Sampling exemption;

(15) Prohibition on combining small-mesh exempted fishery and sector trips in SNE;

(16) Extra-large mesh requirement to target dogfish on trips excluded from ASM in SNE and Inshore GB;

(17) Requirement that Handgear A vessels carry a Vessel Monitoring System unit when fishing in a single broad stock area; and

(18) Limits on the number of gillnets for Day gillnet vessels in the GOM.

Exemption Requests in Fishing Year 2024

For fishing year 2024, sectors did not request any novel exemptions.

Classification

NMFS is issuing this rule pursuant to 305(d) of the Magnuson-Stevens Act because this action is necessary to carry out the Northeast Multispecies FMP in accordance with the FMP's implementing regulations. The NMFS Assistant Administrator has determined that this rule is consistent with the Northeast Multispecies FMP, other provisions of the Magnuson-Stevens Act, and other applicable law.

Pursuant to 5 U.S.C. 553(b)(B), the Assistant Administrator for Fisheries finds good cause to waive prior public notice and an opportunity for public comment, because allowing time for notice and comment is impracticable, unnecessary, and contrary to the public interest. The allocations in this action are required by regulations that prescribe how they are determined. The public had a prior opportunity to comment on this process and the formula used for its calculation during the development of the rules implementing the Northeast Multispecies FMP and subsequent amendments and framework adjustments. Thus, in accordance with the existing regulations, NMFS calculates a sector's allocation for each stock by summing its members' PSC for a stock and then multiplying that total percentage by the available commercial sub-ACL for that stock. Thus, the ACE allocations are based on long-established fishing histories and are formulaic, administrative, and involve no exercise of discretion.

NMFS finds, pursuant to 5 U.S.C. 553(d)(3), that there is good cause to waive the 30-day delay in the date of effectiveness for this final rule. This action allocates ACE to groundfish sectors in the Northeast multispecies fishery for fishing year 2024. Sectors are prohibited from fishing without ACE allocations; as such, timely implementation is necessary to ensure that sectors may fish at the start of the 2024 fishing year on May 1, 2024. If sectors were prohibited from fishing while waiting for the rule to take effect, there would be significant disruption to the fishery along with negative economic impacts, thus undermining the intent of the rule. The allocation of ACE to groundfish sectors occurs annually. Industry members and other stakeholders are aware of and familiar with these proceedings and expect them to occur in a timely manner.

This final rule is exempt from review under Executive Order 12866 because it contains no implementing regulations.

This final rule contains no information collection requirements under the Paperwork Reduction Act of 1995.

Because prior notice and the opportunity for public comment are not required for this action by the Administrative Procedure Act (5 U.S.C. 551 et seq.), or any other law, the analytical requirements of the Regulatory Flexibility Act, 5 U.S.C. 601 et seq., are inapplicable. Therefore, no final regulatory flexibility analysis is required and none has been prepared.

Authority: 16 U.S.C. 1801 et seq.

Dated: April 2, 2024.
Samuel D. Rauch III,
Deputy Assistant Administrator for Regulatory Programs, National Marine Fisheries Service.

[FR Doc. 2024-07296 Filed 4-4-24; 8:45 am]

BILLING CODE 3510-22-P